FEDERAL COMMUNICATIONS COMMISSION

47 CFR Part 73

[DA 02-2282, MB Docket No. 02-131, RM-10440]

Digital Television Broadcast Service; Hammond, LA

AGENCY: Federal Communications Commission.

ACTION: Final rule.

SUMMARY: The Commission, at the request of KB Prime Media LLC, substitutes DTV channel 42 for NTSC channel 62+ at Hammond, Louisiana. See 67 FR 40632, June 13, 2002. DTV channel 42 can be allotted to Hammond, Louisiana, in compliance with the principle community coverage requirements of Section 73.625(a) at reference coordinates 29-58-57 N. and 89-57-09 W. with a power of 1000, HAAT of 308 meters and with a DTV service population of 1667 thousand. With this action, this proceeding is terminated.

DATES: Effective November 4, 2002.

FOR FURTHER INFORMATION CONTACT: Pam Blumenthal, Media Bureau, (202) 418-1600.

SUPPLEMENTARY INFORMATION: This is a synopsis of the Commission's Report and Order, MB Docket No. 02-131, adopted September 13, 2002, and released September 19, 2002. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC 20554, telephone 202-863-2893, facsimile 202-863-2898, or via e-mail qualexint@aol.com.

List of Subjects in 47 CFR Part 73

Digital television broadcasting, Television.

Part 73 of Title 47 of the Code of Federal Regulations is amended as follows:

PART 73—[AMENDED]

1. The authority citation for Part 73 continues to read as follows:

Authority: 47 U.S.C. 154, 303, 334 and 336.

§ 73.606 [Amended]

2. Section 73.606(b), the Table of Television Allotments under Louisiana, is amended by removing TV channel 62+ at Hammond.

§ 73.622 [Amended]

3. Section 73.622(b), the Table of Digital Television Allotments under Louisiana, is amended by adding Hammond, DTV channel 42.

Federal Communications Commission.
Barbara A. Kreisman,
Chief, Video Division, Media Bureau.

[FR Doc. 02-25571 Filed 10-7-02; 8:45 am]

BILLING CODE 6712-01-P